DEPARTMENT OF THE INTERIOR

Bureau of Land Management

[NM-510-1610-DS-025G]

Notice of Availability (NOA)

AGENCY: Bureau of Land Management (BLM), Interior.

ACTION: Notice of Availability of the Special Status Species Draft Resource Management Plan Amendment/ Environmental Impact Statement (DRMPA/EIS), New Mexico.

SUMMARY: In accordance with the National Environmental Policy Act of 1969 (42 U.S.C. 4321 et seq.) and the Federal Land Policy and Management Act of 1976 (43 U.S.C. 1701 et seq.), the BLM has prepared a Special Status Species DRMPA/EIS for the Pecos District and by this Notice is announcing the opening of the comment period.

DATES: To assure that they will be considered, the BLM must receive written comments on the DRMPA/EIS within 90 days following the date the Environmental Protection Agency publishes their NOA in the Federal Register. The BLM will announce future meetings or hearings and any other public involvement activities at least 15 days in advance through public notices, media news releases, and/or mailings.

ADDRESSES: You may submit comments by any of the following methods: Web Site: http://www.nm.blm.gov; E-mail: NMRFO_Comments@blm.gov; Fax: 505-627-0276; or Mail: BLM Roswell Field Office, Attention: RMPA, 2909 West Second Street, Roswell, NM 88201.

FOR FURTHER INFORMATION CONTACT: For further information or to have your name added to the Special Status Species DRMPA/EIS Mailing List, contact Howard Parman, Planning Team Leader, at the Roswell Field Office (see ADDRESSES above), telephone 505-627-0272. Requests for information may be sent electronically to: NMRFO_Comments@blm.gov with “Attention: Special Status Species DRMPA Information Request” in the subject line.

SUPPLEMENTARY INFORMATION: The planning area for the Special Status Species DRMPA/EIS, which includes 847,491 acres of BLM-administered public lands, is located in Chaves, Eddy, Lea, and Roosevelt Counties, New Mexico. A map of the planning area is available on the Web site (see ADDRESSES above). The planning area includes all surface and subsurface (mineral estate) lands managed by BLM within the planning area.

The BLM-administered public lands within the planning area are currently managed under interim management guidelines issued on August 5, 2004. Interim management is in accordance with the decisions in the 1988 Carlsbad RMP, as amended, and the 1997 Roswell RMP. The BLM will continue to manage these lands in accordance with the interim management guidelines until the RMPA is completed and a Record of Decision is signed.

The purpose of the DRMPA/EIS is to amend the existing Resource Management Plans, in order to protect and enhance lesser prairie-chicken and sand dune lizard habitats, while allowing other uses to continue. The Special Status Species DRMPA/EIS documents the direct, indirect, and cumulative environmental impacts of six alternative plans for BLM-administered public lands within the planning area.

The DRMPA/EIS describes the physical, biological, cultural, historic, and socioeconomic resources in and around the surrounding planning area. The focus for impact analysis was based on resource issues and concerns identified during scoping and public involvement activities and opportunities. Potential impacts of concern regarding possible management direction and planning decisions (not in priority order) are: development of energy resources, special management designation, special status species management, livestock grazing, and off-highway vehicle designations.

Six alternatives were analyzed in detail: The No Action Alternative represents the continuation of existing management plans, policies, and decisions as established in the 1988 Carlsbad RMP (as amended) and the 1997 Roswell RMP. Alternative A represents a strategy developed by the Southeast New Mexico Lesser Prairie Chicken Working Group to give greater protection to the Lesser prairie chicken and the sand dune lizard. Alternative B represents the working group's strategy and adds more emphasis to sand dune lizard habitat and surface reclamation. Alternative C represents the continuation of interim management, originally put in place by the BLM to preserve management options in the planning area. Alternative D focuses management efforts on preserving occupied habitat. Alternative E analyzes the impacts of an Area of Critical Environmental Concern (ACEC) nomination. (See below for additional information about the ACEC.) The BLM's preferred alternative is Alternative B.

Since the publication of the Notice of Intent (NOI) to prepare a DRMPA/EIS in the Federal Register on November 18, 2004, scoping meetings, economic workshops, and mailings have been conducted to solicit public comments and input. The Pecos District Office has been providing updates on the development of the DRMPA/EIS to the Chaves, Eddy, and Lea County Boards of Commissioners, and the New Mexico Resource Advisory Council. Tribal governments with interests in the planning area were also contacted. In addition to Chaves, Eddy, and Lea counties, the New Mexico State Land Office, the New Mexico Department of Agriculture, and New Mexico Department of Game and Fish, applied for, and were granted, Cooperating Agency status for the development of the DRMPA/EIS.

The DRMPA/EIS considers the nomination of one ACEC. Alternative E describes the proposed Lesser Prairie Chicken ACEC, and analyzes the impacts of establishing this ACEC. This ACEC would be four tracts totaling approximately 231,040 acres. Resource use limitations in this ACEC include a 5-year moratorium on all livestock grazing and new oil and gas activities within the proposed ACEC south of U.S. Highway 380 and the two small portions of the proposed ACEC straddling U.S. Highway 70; no new oil or gas well drilling allowed within 0.9 mile of an active lesser prairie chicken lek within the proposed ACEC; and no new rights-of-way granted within 0.9 mile of an active lesser prairie chicken lek within the proposed ACEC. Within the Adaptive Management Area of the proposed ACEC, experimental reductions in livestock grazing would be conducted, including no livestock grazing on at least 1 square mile within 1.5 miles of lesser prairie chicken lek sites; and light intensity livestock grazing after June 30 on at least 1 square mile within 1.5 miles of lesser prairie chicken lek sites. Each grazing treatment experiment would be conducted on a minimum of five sites.

From the publication date of the NOI in the Federal Register, through February 5, 2005, the BLM solicited comments and received 10 written letters, comment forms, and e-mails from interested parties. In addition, four scoping meetings were held to provide the public with an opportunity to acquire information about the planning process and its status, and how to submit comments.

These public meetings were held in Portales, New Mexico, on January 11, 2005, Roswell, New Mexico, on January 13, 2005, Carlsbad, New Mexico, on January 18, 2005, and Hobbs, New Mexico, on January 20, 2005. The four meetings resulted in approximately 64 oral comments from the public. All comments presented throughout the process have been considered. Background information and maps used in developing the Draft RMPA/EIS are available for public viewing at the Roswell Field Office at the above address.

Comments that are e-mailed or faxed must include “Comments on Special Status Species DRMPA/EIS” in the subject line. Individual respondents may request confidentiality. If you wish to withhold your name or street address, or both, from public review or from disclosure under the Freedom of Information Act, you must state this prominently at the beginning of your written comments. Such requests will be honored to the extent allowed by law. The BLM will not consider anonymous comments. All submissions from organizations and businesses will be made available for public inspection in their entirety.

Copies of the Special Status Species DRMPA/EIS will be available for public inspection at the following locations: BLM New Mexico State Office, 1474 Rodeo Road, Santa Fe, NM 87505; BLM Carlsbad Field Office, 620 East Greene, Carlsbad, NM 88220; BLM Roswell Field Office, 2909 West Second Street, Roswell, NM 88201. The current RMPs/EISs, and all other documents relevant to this planning process, are available for public review at the Field Offices at the above addresses.

Dated: June 6, 2006.
Linda S.C. Rundell,
New Mexico State Director.

[FR Doc. E6-17452 Filed 10-19-06; 8:45 am]

BILLING CODE 4310-GG-P